SECURITIES AND EXCHANGE COMMISSION

Proposed Collection; Comment Request

Upon Written Request Copies Available From: Securities and Exchange Commission, Office of FOIA Services, 100 F Street NE., Washington, DC 20549-2736.

Extension:

Form SD; SEC File No. 270-647, OMB Control No. 3235-0697.

Notice is hereby given that, pursuant to the Paperwork Reduction Act of 1995 (44 U.S.C. 3501 et seq.), the Securities and Exchange Commission (“Commission”) is soliciting comments on the collection of information summarized below. The Commission plans to submit this existing collection of information to the Office of Management and Budget for extension and approval.

Form SD (17 CFR 249b--400) under Securities Exchange Act of 1934 (15 U.S.C. 78a et seq.)(“Exchange Act”) pursuant to Section 13(p)(15 U.S.C. 78m(p)) of the Exchange Act is filed by issuers to provide disclosures regarding the source and chain of custody of certain minerals used in their products. We estimate that Form SD takes approximately 480.61 hours per response to prepare and is filed by approximately 864 issuers. We estimate that 75% of the 480.61 hours per response (360.46 hours) is prepared by the issuer internally for a total annual burden of 311,437 hours (360.46 hours per response x 864 responses).

Written comments are invited on: (a) Whether this proposed collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology. Consideration will be given to comments and suggestions submitted in writing within 60 days of this publication.

An agency may not conduct or sponsor, and a person is not required to respond to, a collection of information unless it displays a currently valid control number.

Please direct your written comment to Pamela Dyson, Director/Chief Information Officer, Securities and Exchange Commission, c/o Remi Pavlik-Simon, 100 F Street NE., Washington, DC 20549 or send an email to: PRA_Mailbox@sec.gov.

Dated: February 24, 2016.
Robert W. Errett,
Deputy Secretary.

[FR Doc. 2016-04351 Filed 2-26-16; 8:45 am]

BILLING CODE 8011-01-P